DEPARTMENT OF ENERGY

Federal Energy Regulatory Commission

[Docket No. RP00-187-000]

National Fuel Gas Supply Corporation; Notice of Proposed Changes in FERC Gas Tariff

March 1, 2000.

Take notice that on February 28, 2000, National Fuel Gas Supply Corporation (National Fuel) tendered for filing as part of its FERC Gas Tariff, Fourth Revised Volume No. 1, Second Revised Sheet No. 407, with a proposed effective date of March 30, 2000.

National Fuel states that the purpose of the instant filing is to revise GT&C Section 17 of its tariff to expressly permit National Fuel and its shippers to vary the payment obligations and crediting mechanisms for capacity release transactions when entering into negotiated rate agreements. National Fuel further states that consistent with the Commission's policy, the proposed provision includes language clarifying that its tariff does not authorize the negotiation of terms and conditions of service.

National Fuel states that copies of this filing were served upon its customers and interested state commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-5449 Filed 3-6-00; 8:45 am]

BILLING CODE 6717-01-M